NUCLEAR REGULATORY COMMISSION

[Docket No. 50-331]

Nuclear Management Company; Notice of Partial Denial of Amendment to Facility Operating License and Opportunity for Hearing

The U.S. Nuclear Regulatory Commission (NRC or the Commission) has denied a request by Nuclear Management Company, LLC (the licensee) for an amendment to Facility Operating License No. DPR-49 issued to the licensee for operation of the Duane Arnold Energy Center, located in Linn County, Iowa.

Notice of Consideration of Issuance of this amendment was published in the Federal Register on April 13, 2004 (69 FR 19571).

The purpose of the licensee's amendment request was to revise the Technical Specifications (TS) to reflect adoption of Technical Specifications Task Force (TSTF) traveler numbers 264, 273, 284, and 299.

The NRC staff has concluded that the portion of the licensee's request to adopt TSTF-264 and revise TS 3.3.1.1 cannot be granted. The licensee was notified of the Commission's denial of the proposed change by a letter dated June 14, 2005.

By 30 days from the date of publication of this notice in the Federal Register, the licensee may demand a hearing with respect to the denial described above. Any person whose interest may be affected by this proceeding may file a written petition for leave to intervene pursuant to the requirements of Title 10 of the Code of Federal Regulations Section 2.309.

A request for hearing or petition for leave to intervene must be filed with the Secretary of the Commission, U.S. Nuclear Regulatory Commission, Washington, DC 20555-0001 Attention: Rulemakings and Adjudications Staff, or may be delivered to the Commission's Public Document Room (PDR), located at One White Flint North, Public File Area O1 F21, 11555 Rockville Pike (first floor), Rockville, Maryland, by the above date. Because of continuing disruptions in delivery to mail to U.S. Government offices, it is requested that petitions for leave to intervene and requests for hearing be transmitted to the Secretary of the Commission either by means of facsimile transmission to 301-415-1101 or by e-mail to hearingdocket@nrc.gov. A copy of any petitions should also be sent to the Office of the General Counsel, U.S. Nuclear Regulatory Commission, Washington, DC 20555-0001, and because of continuing disruptions in delivery of mail to the U.S. Government offices, it is requested that copies be transmitted either by means of facsimile transmission to 301-415-3725 or by e-mail to OGCMailCenter@nrc.gov. A copy of any petitions should also be sent to Bradley D. Jackson, Esq., Foley and Lardner, P.O. Box 1497, Madison, WI 53701-1497, attorney for the licensee.

For further details with respect to this action, see (1) the application for amendment dated January 28, 2004, as supplemented by letter dated November 22, 2004, and (2) the Commission's letter to the licensee dated June 14, 2005.

Documents may be examined, and/or copied for a fee, at the NRC's PDR, located at One White Flint North, 11555 Rockville Pike (first floor), Rockville, Maryland, and will be accessible electronically through the Agencywide Documents Access and Management System's Public Electronic Reading Room link at the NRC Web site http://www.nrc.gov/reading-rm/adams.html. Persons who do not have access to ADAMS or who encounter problems in accessing documents located in ADAMS, should contact the NRC PDR Reference staff by telephone at 1-800-397-4209, 301-415-4737, or by e-mail to pdr@nrc.gov.

Dated at Rockville, Maryland, this 14th day of June 2005.
For the Nuclear Regulatory Commission.
Ho K. Nieh,
Acting Director, Project Directorate III-1, Division of Licensing Project Management, Office of Nuclear Reactor Regulation.

[FR Doc. E5-3177 Filed 6-17-05; 8:45 am]

BILLING CODE 7590-01-P